DEPARTMENT OF ENERGY

Federal Energy Regulatory Commission

[ Docket No. CP10-16-000]

Cadeville Gas Storage LLC; Notice of Intent To Prepare an Environmental Assessment for the Proposed Cadeville Gas Storage Project and Request for Comments on Environmental Issues

November 30, 2009.

The staff of the Federal Energy Regulatory Commission (FERC or Commission) will prepare an environmental assessment (EA) that will discuss the environmental impacts of the Cadeville Gas Storage Project (Cadeville Gas Storage) involving construction and operation of facilities by Cadeville Gas Storage LLC (Cadeville Gas) in Ouachita Parish, Louisiana. This EA will be used by the Commission in its decision-making process to determine whether the project is in the public convenience and necessity.

This notice announces the opening of the scoping process we will use to gather input from the public and interested agencies on the project. Your input will help the Commission staff determine which issues need to be evaluated in the EA. Please note that the scoping period will close on December 30, 2009.

This notice is being sent to affected landowners; federal, state, and local government representatives and agencies; elected officials; environmental and public interest groups; Native American Tribes; other interested parties; and local libraries and newspapers. State and local government representatives are asked to notify their constituents of this planned project and encourage them to comment on their areas of concern.

If you are a landowner receiving this notice, you may be contacted by a Cadeville Storgae representative about survey permission and/or the acquisition of an easement to construct, operate, and maintain the proposed facilities. The company would seek to negotiate a mutually acceptable agreement. However, if the project is approved by the Commission, that approval conveys with it the right of eminent domain. Therefore, if easement negotiations fail to produce an agreement, the natural gas company could initiate condemnation proceedings in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings. It is available for viewing on the FERC Internet Web site (www.ferc.gov).

Summary of the Proposed Project

Cadeville Storage proposes to convert a depleted natural gas reservoir to storage with an approximate 16.4 billion cubic feet (bcf) of working gas capacity and 5.4 bcf of base gas capacity. Cadeville Storage proposed to construct the following facilities associated with the Project:

• Install eight new natural gas injection/withdrawal wells;

• convert three existing wells to observation wells;

• construct approximately 0.2 miles of 20-inch diameter injection/withdrawal pipeline referred to as the South Injection/Withdrawal Pipeline, and 1.4 miles of 16-inch diameter injection/withdrawal pipeline referred to as the North Injection/Withdrawal Pipeline;

• construct an integrated compressor station/control facility, comprised of five 4,735 brake horsepower (bhp) natural gas fueled engines, reciprocating compressors equipped with air intake filters/silencers, critical grade exhaust silencer/catalyst, a triethylene glycol dehydration system, control and safety systems, and associated facilities;

• construct approximately 2.6 miles of 16-inch diameter header pipeline referred to as the Tennessee Header;

• construct approximately 0.9 miles of 16-inch diameter header pipeline referred to as the Gulf South Header;

• construct approximately 6.4 miles of 24-inch diameter header pipeline referred to as the CenterPoint Header; and

• construct three metering and regulation stations, one at each interconnect point with the Tennessee, Gulf South, and CenterPoint pipelines. These stations are referred to as the Tennessee Meter Station, Gulf South Meter Station, and CenterPoint Meter Station.

The general location of the project facilities is shown in Appendix 1.²

² The appendices referenced in this notice are not being printed in the Federal Register. Copies of all appendices are available on the Commission's Web site at the “eLibrary” link or from the Commission's Public Reference Room, 888 First Street, NE., Washington, DC 20426, or call (202) 502-8371. For instructions on connecting to eLibrary, refer to the last page of this notice. Copies of the appendices were sent to all those receiving this notice in the mail.

If approved, Cadeville Storage proposes to commence construction of the proposed facilities on or about June 2010.

Land Requirements for Construction

Construction and modifications of the storage field and associated facilities would temporarily impact about 141.3 acres of land for use as construction workspace, access roads and pipe/contractor yards areas. A total of 80.2 acres would be permanent impact.

Cadeville Storage is proposing to construct as well as utilize existing access roads along with the Project. Approximately 2.5 acres would be used as permanent easements for new access roads.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Geology and soils

• Land use

• Water resources, fisheries, and wetlands

• Cultural resources

• Vegetation and wildlife

• Air quality and noise

• Endangered and threatened species

• Public safety

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission. To ensure your comments are considered, please carefully follow the instructions in the public participation section below.

With this NOI, we are asking federal, state, and local agencies with jurisdiction and/or special expertise with respect to environmental issues to formally cooperate with us in the preparation of the EA. These agencies may choose to participate once they have evaluated the proposal relative to their responsibilities. Additional agencies that would like to request cooperating agency status should follow the instructions for filing comments provided under the Public Participation section of this NOI.

Currently Identified Environmental Issues

We have already identified several issues that we think deserve attention based on a preliminary review of the proposed facilities and the environmental information provided by Cadeville Storage. This preliminary list of issues may be changed based on your comments and our analysis.

• Potential impacts may occur to wetlands and waterbodies. Approximately 4.08 acres of wetlands would be affected by crossing of pipeline facilities.

• Construction and operation impacts would affect approximately 132.0 acres of forested and mixed woods lands.

• Potential impacts may occur to the federally-listed red-cockaded woodpecker.

Public Participation

You can make a difference by providing us with your specific comments or concerns about Cadeville Gas Storage Project. Your comments should focus on the potential environmental effects, reasonable alternatives, and measures to avoid or lessen environmental impacts. The more specific your comments, the more useful they will be. To ensure that your comments are timely and properly recorded, please send in your comments so that they will be received in Washington, DC on or before December 30, 2009.

For your convenience, there are three methods in which you can use to submit your comments to the Commission. In all instances please reference the project docket number CP10-16-000 with your submission. The docket number can be found on the front of this notice. The Commission encourages electronic filing of comments and has dedicated eFiling expert staff available to assist you at 202-502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426;

Label one copy of the comments for the attention of Gas Branch 2, PJ11.2.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

If you do not want to send comments at this time but still want to remain on our mailing list, please return the Information Request (Appendix 2). If you do not return the Information Request, you will be taken off the mailing list.

Becoming an Intervenor

In addition to involvement in the EA scoping process, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site.

Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Finally, public meetings or site visits will be posted on the Commission's calendar located at http://www.ferc.gov/EventCalendar/EventsList. aspx along with other related information.
Kimberly D. Bose,
Secretary.

[FR Doc. E9-29033 Filed 12-4-09; 8:45 am]

BILLING CODE 6717-01-P